DEPARTMENT OF HOMELAND SECURITY

Bureau of Citizenship and Immigration Services

[CIS No. 2285-03]

RIN 1650-AB06

Extension of the Designation of Liberia Under the Temporary Protected Status Program

AGENCY: Bureau of Citizenship and Immigration Services, Homeland Security.

ACTION: Notice.

SUMMARY: The designation of Liberia under the Temporary Protected Status (TPS) Program will expire on October 1, 2003. This notice extends the Secretary of Homeland Security's designation of Liberia for 12 months until October 1, 2004, and sets forth procedures necessary for nationals of Liberia (or aliens having no nationality who last habitually resided in Liberia) with TPS to re-register and to apply for an extension of their employment authorization documentation for the additional 12-month period. Re-registration is limited to persons who registered under the initial designation (for which the registration period ended on April 1, 2003). Certain nationals of Liberia (or aliens having no nationality who last habitually resided in Liberia) who previously have not applied for TPS may be eligible to apply under the late initial registration provisions.

EFFECTIVE DATES: The extension of Liberia's TPS designation is effective October 1, 2003, and will remain in effect until October 1, 2004. The 60-day re-registration period begins August 6, 2003 and will remain in effect until October 6, 2003.

FOR FURTHER INFORMATION CONTACT: Jonathan Mills, Residence and Status Services, Office of Programs and Regulations, Bureau of Citizenship and Immigration Services, Department of Homeland Security, 425 “I” Street, NW., Room 3040, Washington, DC 20536, telephone (202) 514-4754.

SUPPLEMENTARY INFORMATION:

What Authority Does the Secretary of the Department of Homeland Security Have To Extend the Designation of Liberia Under the TPS Program?

On March 1, 2003, the functions of the Immigration and Naturalization Service (Service) transferred from the Department of Justice to the Department of Homeland Security (DHS) pursuant to the Homeland Security Act of 2002, Public Law 107-296. The responsibilities for administering the TPS program held by the Service were transferred to the Bureau of Citizenship and Immigration Services (BCIS).

Under section 244 of the Immigration and Nationality Act (Act), 8 U.S.C. 1254a, the Secretary of DHS, after consultation with appropriate agencies of the Government, is authorized to designate a foreign state or (part thereof) for TPS. The Secretary of DHS may then grant TPS to eligible nationals of that foreign state (or aliens having no nationality who last habitually resided in that state).

Section 244(b)(3)(A) of the Act requires the Secretary of DHS to review, at least 60 days before the end of the TPS designation or any extension thereof, the conditions in a foreign state designated under the TPS program to determine whether the conditions for a TPS designation continue to be met and, if so, the length of an extension of TPS. 8 U.S.C. 1254a(b)(3)(A). If the Secretary of DHS determines that the foreign state no longer meets the conditions for TPS designation, he shall terminate the designation, as provided in section 244(b)(3)(B) of the Act. 8 U.S.C. 1254a(b)(3)(B). Finally, if the Secretary of DHS does not determine that a foreign state (or part thereof) no longer meets the conditions for designation at least 60 days before the designation or extension is due to expire, section 244(b)(3)(C) of the Act provides for an automatic extension of TPS for an additional period of 6 months (or, in the discretion of the Secretary of DHS, a period of 12 or 18 months). 8 U.S.C. 1254a(b)(3)(C).

Why Did the Secretary of DHS Decide To Extend the TPS Designation for Liberia?

On October 1, 2002, the Attorney General published a notice in the Federal Register designating Liberia under the TPS program for a period of 12 months based upon an ongoing armed conflict in Liberia. 67 FR 61665. Since the date of the designation, the Department of Homeland Security and Department of State (DOS) have continued to review conditions in Liberia. A 12-month extension is warranted due to ongoing armed conflict within Liberia that would pose a serious threat to the personal safety of returning nationals of Liberia.

Fighting between government security forces and the Liberians United for Reconciliation and Democracy (LURD) rebels has intensified in western Liberia over the last three years and recently reached heightened levels. DOS Recommendation (June 4, 2003). The newly emerged rebel force Movement for Democracy in Liberia (MODEL) is now active in eastern Liberia, opening a second front. Id. Fighting has spread to 10 of Liberia's 13 counties. Id. Rebel groups currently control between 40 and 60 percent of the territory of Liberia. BCIS Resource Information Center (RIC) Report (June 17, 2003). The rebels, who want to oust President Charles Taylor, have stepped up their attacks and recently reached the capital, Monrovia. DOS Recommendation; United Nations News Service (July 21, 2003).

According to a February 2003 report from the United Nations (U.N.) Secretary-General, the situation in Liberia “remains extremely volatile, with the rebels reportedly in control of several towns and cities.” RIC Report. The U.N. Secretary General's representative also stated that the “security situation had deteriorated progressively since the start of the year and the trend would continue unless concerted action was taken to bring about a ceasefire between government troops and rebels of the * * * LURD.” Id.

All sides in Liberia have engaged in atrocities against civilians. DOS Recommendation. Civilians are directly threatened by the various fighting forces, all of whom continue to commit serious human rights abuses, including extrajudicial killings, disappearances, torture, forced military recruitment of children and adults, beatings, and rape. Id. Fighting between government and rebel forces also poses a threat. Id.

Civilians suffer increasingly from deteriorating humanitarian conditions related to the fighting. Id. Several areas of the country are inaccessible to relief organizations. Id. The U.N. Secretary General observed that the “security situation in Liberia has deteriorated so badly that it has become extremely difficult to reach internally displaced persons and third-country refugees who have now fallen victim to abductions, conscriptions, and various gross violations of human rights.” RIC Report. Liberia's internally displaced persons (IDP) population has swelled from about 200,000 to 300,000 since January 2003. DOS Recommendation. There are now 55,000 Liberian refugees in Sierra Leone, 130,000 in Guinea, and 30,000 in Ivory Coast. Id. Liberia's vital services, such as food, water, sanitation, shelter, and health, are on the verge of collapse. Id.

Based upon this review, the Secretary of DHS, after consultation with appropriate Government agencies, finds that the conditions that prompted designation of Liberia under the TPS program continue to be met. 8 U.S.C. 1254a(b)(3)(A). There is an ongoing armed conflict within Liberia and, due to such conflict, requiring the return of aliens who are nationals of Liberia (or aliens having no nationality who last habitually resided in Liberia) would pose a serious threat to their personal safety. 8 U.S.C. 1254a(b)(1)(A). On the basis of these findings, the Secretary of DHS concludes that the TPS designation for Liberia should be extended for an additional 12-month period. 8 U.S.C. 1254a(b)(3)(C).

If I Currently Have TPS Through the Liberia TPS Program, Do I Still Re-Register for TPS?

Yes. If you already have received TPS benefits through the Liberia TPS program, your benefits will expire on October 1, 2003. Accordingly, individual TPS beneficiaries must comply with the re-registration requirements described below in order to maintain their TPS benefits through October 1, 2004. TPS benefits include temporary protection against removal from the United States, as well as employment authorization, during the TPS designation period and any extension thereof. 8 U.S.C. 1254a(a)(1).

If I Am Currently Registered for TPS, How Do I Re-Register for an Extension?

All persons previously granted TPS under the Liberia program who wish to maintain such status must apply for an extension by filing (1) a Form I-821, Application for Temporary Protected Status, without the filing fee; (2) a Form I-765, Application for Employment Authorization; and (3) two identification photographs (1½ inches × 1½ inches). See the chart below to determine whether you must submit the one hundred and twenty dollar ($120) filing fee with Form I-765. Applicants for an extension of TPS benefits do not need to be re-fingerprinted and thus need not pay the $50 fingerprint fee. Children beneficiaries of TPS who have reached the age of fourteen (14) but were not previously fingerprinted must pay the fifty dollar ($50) fingerprint fee with the application for extension.

An application submitted without the required fee and/or photos will be returned to the applicant. Submit the completed forms and applicable fee, if any, to the BCIS District Office having jurisdiction over your place of residence during the 60-day re-registration period that begins August 6, 2003 and ends October 6, 2003.

If . . . | Then . . .
You are applying for employment authorization until October 1, 2004 | You must complete and file the Form I-765, Application for Employment Authorization, with the $120 fee.
You already have employment authorization or do not require employment authorization | You must complete and file Form I-765 with no fee.¹
You are applying for employment authorization and are requesting a fee waiver | You must complete and file: (1) Form I-765 and (2) a fee waiver request and affidavit (and any other information) in accordance with 8 CFR 244.20.
¹ An applicant who does not seek employment authorization documentation does not need to submit the $120 fee, but must still complete and submit Form I-765 for data gathering purposes.

If My Application for TPS Is Still Pending, How Can I Renew My Employment Authorization Document?

If your application for TPS is still pending and you wish to receive or renew your employment authorization document, you must file with the BCIS District Office having jurisdiction over your place of residence (1) a Form I-821 without the filing fee, (2) a Form I-765, and (3) two identification photographs (1½ inches x 1½ inches). See the chart above to determine whether you must submit the one hundred and twenty ($120) filing fee with Form I-765. An application submitted without the required filing fee or photos will be returned to the applicant.

How Does an Application for TPS Affect My Application for Asylum or Other Immigration Benefits?

An application for TPS does not affect an application for asylum or any other immigration benefit, and vise versa. Denial of an application for asylum or any other immigration benefit does not affect an applicant's TPS eligibility, although the grounds for denying one form of relief may also be grounds for denying TPS. For example, a person who has been convicted of a particularly serious crime is not eligible for asylum or TPS. 8 U.S.C. 1158(b)(2)(A)(ii); 8 U.S.C. 1254a(c)(2)(B)(ii).

Does This Extension Allow Nationals of Liberia (or Aliens Having No Nationality Who Last Habitually Resided in Liberia) Who Entered the United States After October 1, 2002, To File for TPS?

No. This is a notice of an extension of TPS, not a notice of re-designation of Liberia under the TPS program. An extension of TPS does not change the required dates of continuous residence and continuous physical presence in the United States. This extension does not expand TPS availability to those who are not already TPS class members. To be eligible for benefits under this extension, nationals of Liberia (or aliens having no nationality who last habitually resided in Liberia) must have resided continuously in the United States since October 1, 2002, and have been continuously physically present in the United States since October 1, 2002.

What Is Late Initial Registration?

Some persons may be eligible for late initial registration under 8 U.S.C. 1254a(c)(1)(A) and 8 CFR 244.2(f)(2). To apply for late initial registration an applicant must:

(1) Be a national of Liberia (or alien who has no nationality and who last habitually resided in Liberia);

(2) Have been continuously physically present in the United States since October 1, 2002;

(3) Have continuously resided in the United States since October 1, 2002; and

(4) Be both admissible as an immigrant, except as provided under section 244(c)(2)(A) of the Act, and not ineligible under section 244(c)(2)(B) of the Act.

Additionally, the applicant must be able to demonstrate that during the registration period from October 1, 2002, through April 1, 2003, he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Was the spouse or child of an alien currently eligible to be a TPS registrant.

An applicant for late initial registration must file an application for late registration no later than 60 days after the expiration or termination of the conditions described above. 8 CFR 244.2(g).

What Happens When This Extension of TPS Expires on October 1, 2004?

At least 60 days before this extension of TPS expires on October 1, 2004, the Secretary of DHS will review conditions in Liberia and determine whether the conditions for designation under the TPS program continue to be met at that time, or whether the TPS designation should be terminated. Notice of that determination, including the basis for the determination, will be published in the Federal Register.

If the TPS designation is extended at that Time, an alien who has received TPS benefits must re-register under the extension in order to maintain TPS benefits. If, however, the Secretary of DHS terminates the TPS designation, TPS beneficiaries will maintain the immigration status they had before TPS (unless that status had since expired or been terminated) or any other status they may have acquired while registered for TPS. Accordingly, if an alien had no lawful immigration status prior to receiving TPS and did not obtain any status during the TPS period, he or she will revert to that unlawful status upon termination of the TPS designation.

Notice of Extension of Designation of Liberia Under the TPS Program

By the authority vested in me as Secretary of DHS under sections 244(b)(1)(B), (b)(3)(A), and (b)(3)(C) of the Act, I have consulted with the appropriate government agencies and determine that the conditions that prompted designation of Liberia for TPS continue to be met (8 U.S.C. 1254a(b)(3)(A)). Accordingly, I order as follows:

(1) The designation of Liberia under section 244(b) of the Act is extended for an additional 12-month period from October 1, 2003, to October 1, 2004. 8 U.S.C. 1254a(b)(3)(C).

(2) There are approximately 2,400 nationals of Liberia (or aliens having no nationality who last habitually resided in Liberia) who have been granted TPS and who are eligible for re-registration.

(3) To maintain TPS, a national of Liberia (or an alien having no nationality who last habitually resided in Liberia) who was granted TPS during the initial designation period must re-register for TPS during the 60-day re-registration period from August 6, 2003 until October 6, 2003.

(4) To re-register, the applicant must file the following: (1) Form I-821, Application for Temporary Protected Status; (2) Form I-765, Application for Employment Authorization; and (3) two identification photographs (1½ inches by 1½ inches). Applications submitted without the required fee and/or photos will be returned to the applicant. There is no fee for filing a Form I-821 for re-registration application. If the applicant requests employment authorization, he or she must submit one hundred and twenty dollars ($120) or a properly documented fee waiver request, pursuant to 8 CFR 244.20, with the Form I-765. An applicant who does not request employment authorization must nonetheless file Form I-765 along with Form I-821, but is not required to submit the fee. The fifty-dollar ($50) fingerprint fee is required only for children beneficiaries of TPS who have reached the age of 14 but were not previously fingerprinted. Failure to re-register without good cause will result in the withdrawal of TPS. 8 CFR 244.17(c). Some persons who had not previously applied for TPS may be eligible for late initial registration under 8 CFR 244.2.

(5) At least 60 days before this extension terminates on October 1, 2004, the Secretary will review the designation of Liberia under the TPS program and determine whether the conditions for designation continue to be met. 8 U.S.C. 1254a(b)(3)(A). Notice of that determination, including the basis for the determination, will be published in the Federal Register. 8 U.S.C. 1254a(b)(3)(A).

(6) Information concerning the extension of designation of Liberia under the TPS program will be available at local BCIS offices upon publication of this notice and on the BCIS Web site at http://www.bcis.gov.

Dated: August 1, 2003.
Tom Ridge,
Secretary of Homeland Security.

[FR Doc. 03-20172 Filed 8-4-03; 2:20 pm]

BILLING CODE 4410-10-P